ENVIRONMENTAL PROTECTION AGENCY

[FRL-7375-7]

Ambient Air Monitoring Reference and Equivalent Methods: Designation of Two New Equivalent Methods for SO2 and O3

AGENCY: Environmental Protection Agency (EPA).

ACTION: Notice of designation of two new equivalent methods for monitoring ambient air quality.

SUMMARY: Notice is hereby given that the Environmental Protection Agency (EPA) has designated, in accordance with 40 CFR part 53, one new equivalent method for measuring concentrations of sulfur dioxide (SO2) in ambient air and one new equivalent method for measuring concentrations of ozone (O3) in ambient air.

FOR FURTHER INFORMATION CONTACT: Elizabeth Hunike, Human Exposure and Atmospheric Sciences Division (MD-D205-03), National Exposure Research Laboratory, U.S. EPA, Research Triangle Park, North Carolina 27711. Phone: (919) 541-3737, e-mail: Hunike.Elizabeth@epa.gov.

SUPPLEMENTARY INFORMATION: In accordance with regulations at 40 CFR part 53, the EPA evaluates various methods for monitoring the concentrations of those ambient air pollutants for which EPA has established National Ambient Air Quality Standards (NAAQSs), set forth in 40 CFR part 50. Monitoring methods that are determined to meet specific requirements for adequacy are designated by the EPA as either reference methods or equivalent methods (as applicable), thereby permitting their use under 40 CFR part 58 by States and other agencies for determining attainment of the NAAQSs.

The EPA hereby announces the designation of one new equivalent method for measuring concentrations of sulfur dioxide (SO2) in ambient air and one new equivalent method for measuring concentrations of ozone (O3) in ambient air. These designations are made under the provisions of 40 CFR part 53, as amended on July 18, 1997 (62 FR 38764).

The new equivalent method for SO2 is an automated method (analyzer) that utilizes a measurement principle based on ultraviolet fluorescence. The newly designated equivalent method is identified as follows:

EQSA-0802-149, “Environnement S.A. Model AF22M UV Fluorescence Sulfur Dioxide Analyzer,” operated with a full scale range of 0-500 ppb, at any temperature in the range of 10 °C to 35 °C, with a 5-micron PTFE sample particulate filter, with a response time setting of 11 (Automatic response time), with the automatic “ZERO-REF” cycle ON and set for activation every 24 hours, and with or without either of the following options: Permeation oven, Rack mount slides.

An application for an equivalent method determination for this method was received by the EPA on April 30, 2002. The method is available commercially from the applicant, Environnement S.A., 111, Boulevard Robespierre, 78304 Poissy, France (http://www.environnement-sa.com).

The new equivalent method for O3 is an automated method (analyzer) that utilizes a measurement principle based on absorption of ultraviolet light by ozone at a wavelength of 254 nm. The newly designated equivalent method is identified as follows:

EQOA-0992-087, “Teledyne—Advanced Pollution Instrumentation Model 400E UV Photometric Ozone Analyzer,” operated on any full scale range between 0—100 ppb and 0—1000 ppb, with any range mode (Single, Dual, or Auto Range), at any ambient temperature in the range of 5 °C to 40 °C, on input power of 115 or 230 Vac (nominal) and 50-60 Hz, with a PTFE sample particulate filter, with a sample flow rate of 800 ±80 cm³/min (sea level), with the dilution factor set to 1, with Dynamic Zero ON or OFF, with Dynamic Span OFF, with Temp/Press compensation ON, and with or without any of the following options: Internal or external sample pump, Sample/Cal valve option, Internal Zero/Span (IZS), Rack mount with or without slides, 4-20 mA isolated current loop output.

An application for an equivalent method determination for this method was received by the EPA on June 4, 2002. The Model 400E is a modified and updated version of the Advanced Pollution Instrumentation Model 400/400A, which was previously designated as an equivalent method (57 FR 44565) and continues to be so designated. The model 400E is available commercially from the applicant, Teledyne Instruments, Advanced Pollution Instrumentation Division, 6565 Nancy Ridge Drive, San Diego, California (http://www.teledyne-api.com).

A test analyzer representative of each of these methods has been tested by the respective applicant in accordance with the applicable test procedures specified in 40 CFR part 53 (as amended on July 18, 1997). After reviewing the results of those tests and other information submitted by the applicants, EPA has determined, in accordance with part 53, that each of these methods should be designated as an equivalent method. The information submitted by the applicants will be kept on file, either at EPA's National Exposure Research Laboratory, Research Triangle Park, North Carolina 27711 or in an approved archive storage facility, and will be available for inspection (with advance notice) to the extent consistent with 40 CFR part 2 (EPA's regulations implementing the Freedom of Information Act).

As a designated reference or equivalent method, each method is acceptable for use by states and other air monitoring agencies under the requirements of 40 CFR part 58, Ambient Air Quality Surveillance. For such purposes, the method must be used in strict accordance with the operation or instruction manual associated with the method and subject to any specifications and limitations (e.g., measurement range, operational settings, or temperature range) specified in the applicable designation method description (see the identifications of the methods above). Use of the method should also be in general accordance with the guidance and recommendations of applicable sections of the “Quality Assurance Handbook for Air Pollution Measurement Systems, Volume I,” EPA/600/R-94/038a and “Quality Assurance Handbook for Air Pollution Measurement Systems, Volume II, Part 1,” EPA-454/R-98-004. Vendor modifications of a designated reference or equivalent method used for purposes of part 58 are permitted only with prior approval of the EPA, as provided in part 53. Provisions concerning modification of such methods by users are specified under section 2.8 of appendix C to 40 CFR part 58 (Modifications of Methods by Users).

In general, a method designation applies to any sampler or analyzer which is identical to the sampler or analyzer described in the application for designation. In some cases, similar samplers or analyzers manufactured prior to the designation may be upgraded or converted (e.g., by minor modification or by substitution of the approved operation or instruction manual) so as to be identical to the designated method and thus achieve designated status. The manufacturer should be consulted to determine the feasibility of such upgrading or conversion.

Part 53 requires that sellers of designated reference or equivalent method analyzers or samplers comply with certain conditions. These conditions are specified in 40 CFR 53.9 and are summarized below:

(a) A copy of the approved operation or instruction manual must accompany the sampler or analyzer when it is delivered to the ultimate purchaser.

(b) The sampler or analyzer must not generate any unreasonable hazard to operators or to the environment.

(c) The sampler or analyzer must function within the limits of the applicable performance specifications given in 40 CFR parts 50 and 53 for at least one year after delivery when maintained and operated in accordance with the operation or instruction manual.

(d) Any sampler or analyzer offered for sale as part of a reference or equivalent method must bear a label or sticker indicating that it has been designated as part of a reference or equivalent method in accordance with part 53 and showing its designated method identification number.

(e) If such an analyzer has two or more selectable ranges, the label or sticker must be placed in close proximity to the range selector and indicate which range or ranges have been included in the reference or equivalent method designation.

(f) An applicant who offers samplers or analyzers for sale as part of a reference or equivalent method is required to maintain a list of ultimate purchasers of such samplers or analyzers and to notify them within 30 days if a reference or equivalent method designation applicable to the method has been canceled or if adjustment of the sampler or analyzer is necessary under 40 CFR 53.11(b) to avoid a cancellation.

(g) An applicant who modifies a sampler or analyzer previously designated as part of a reference or equivalent method is not permitted to sell the sampler or analyzer (as modified) as part of a reference or equivalent method (although it may be sold without such representation), nor to attach a designation label or sticker to the sampler or analyzer (as modified) under the provisions described above, until the applicant has received notice under 40 CFR 53.14(c) that the original designation or a new designation applies to the method as modified, or until the applicant has applied for and received notice under 40 CFR 53.8(b) of a new reference or equivalent method determination for the sampler or analyzer as modified.

Aside from occasional breakdowns or malfunctions, consistent or repeated noncompliance with any of these conditions should be reported to: Director, Human Exposure and Atmospheric Sciences Division (MD-E205-01), National Exposure Research Laboratory, U.S. Environmental Protection Agency, Research Triangle Park, North Carolina 27711.

Designation of these new equivalent methods is intended to assist the States in establishing and operating their air quality surveillance systems under 40 CFR part 58. Questions concerning the commercial availability or technical aspects of the method should be directed to the applicant.

Dated: September 4, 2002.
Jewel F. Morris,
Acting Director, National Exposure Research Laboratory.

[FR Doc. 02-23261 Filed 9-11-02; 8:45 am]

BILLING CODE 6560-50-P